DEPARTMENT OF COMMERCE

Economic Development Administration

Notice of Petitions by Producing Firms for Determination of Eligibility To Apply for Trade Adjustment Assistance

AGENCY: Economic Development Administration (EDA).

ACTION: To give all interested parties an opportunity to comment.

Petitions have been accepted for filing on the dates indicated from the firms listed below.

List of Petition Action by Trade Adjustment Assistance for Period April 24, 2004-May 21, 2004
Firm name | Address | Date petition accepted | Product
Helac Corporation | 225 Battersby Avenue, Enumclaw, WA 98022 | 4/26/2004 | Rotary actuators.
Kansas American Tooling, Inc | 1101 West First Street, McPherson, KS 67460 | 4/26/2004 | Custom molds for extrusion machine tools.
Unilens Corporation, USA | 10431 72nd Street, Largo, Fl 33777 | 4/27/2004 | Specialty contact lenses.
Unique Originals, Inc | 3550 NW 59th Street, Miami, FL 33142 | 4/27/2004 | Specialty and accent furnishings.
F. M. Eagle Tool Company, Inc. | 8810 Yermoland Drive, El Paso, Texas 79907 | 5/4/2004 | Plates, sticks, tips and the like for tools, unmounted, of sintered metal carbides.
Shick Tube-Veyor Corporation | 4346 Clary Boulevard, Kansas City, MO 64130 | 5/4/2004 | Pneumatic conveyor systems.
Silvanus Products, Inc | 40 Merchants Street, St. Genevieve, MO 63670 | 5/4/2004 | Loose-leaf binders, binders/registers, and index tags.
Pool Pak Technologies Corporation | 3491 Industrial Drive, York, PA 17402 | 5/4/2004 | Dehumidification equipment for indoor swimming pools.
Woodland Furniture L.L.C | P. O. Box 2007, Idaho Falls, ID 83403 | 5/4/2004 | Kitchen tables.
Gem Manufacturing Co., Inc | 78 Brookside Road, Waterbury, CT 06704 | 5/5/2004 | Precision deep drawn eyelets, metal stampings, cans and ferrules.
Avanti Jewelry, Inc | 140 Comstock Parkway, Cranston, RI 02920 | 5/5/2004 | Religious jewelry pendants in 14 karat gold, sterling silver and brass.
Magic Novelty Company, Inc | 308 Dyckman Street, New York, NY 10034 | 5/10/2004 | Metal findings of base and precious metal for costume jewelry.
RNE Corporation d.b.a. Aunt Weedas Closet | P. O. Box 808 Madison Heights, VA 24572 | 5/10/2004 | Health care uniforms for women.
Empire Candle | 2925 Fairfax Tfwy, Kansas Ctiy, KS 66115 | 5/11/2004 | Candles.
R. A. Pearson Company d.b.a Pearson Packaging Systems | 8120 West Sunset Highway, Spokane, WA 99224 | 5/17/2004 | Secondary packaging machinery.
Dallco Industries, Inc | Elm & Albemarle Streets, York, PA 17403 | 5/18/2004 | Women's and girl's blouses, and pillows and cushions.
Dart Manufacturing Co., Inc | 4012 Bronze Way, Dallas, TX 75237 | 5/21/2004 | Imprinted business accessories made of leather.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.
Dated: June 16, 2004.
Anthony J. Meyer,
Senior Program Analyst, Office of Strategic Initiatives.

[FR Doc. 04-14042 Filed 6-21-04; 8:45 am]

BILLING CODE 3510-24-P